FEDERAL COMMUNICATIONS COMMISSION

47 CFR Part 73

[FCC No. 06-160: MB Docket No. 02-136; RM-10458, RM-10663, RM-10667, RM-10668]

Radio Broadcasting Services; Aberdeen, WA; Arlington and Astoria, OR; Bellingham and College Place, WA; Coos Bay, OR; Covington, Forks, and Fossil, WA; Gladstone, OR; Hermiston, OR; Hoquiam, WA; Ilwaco, Kent, and Long Beach, WA; Manzanita, Moro and Portland, OR; Shoreline, WA; Springfield-Eugene, OR; The Dalles and Tillamook, OR; Trout Lake and Walla Walla, WA

AGENCY: Federal Communications Commission.

ACTION: Final rule; denial of application for review.

SUMMARY: This document denies an Application for Review filed by Triple Bogey, LLC,MCC Radio, LLC and KDUX Acquisition directed to the Report and Order in this proceeding. With this action, the proceeding is terminated.

FOR FURTHER INFORMATION CONTACT: Robert Hayne, Media Bureau, (202) 418-2177.

SUPPLEMENTARY INFORMATION: This is a synopsis of the Memorandum Opinion and Order in MB Docket No. 02-136, adopted October 25, 2006, and released October 31, 2006. The full text of this decision is available for inspection and copying during normal business hours in the FCC Reference Information Center at Portals II, CY-A257, 445 12th Street, SW., Washington, DC 20554. The complete text of this decision may also be purchased from the Commission's copy contractor, Best Copy and Printing, Inc., Portals II, 445 12th Street, SW., Room CY-B402, Washington, DC 20554, telephone 1-800-378-3160, or http://www.BCPIWEB.com. This document is not subject to the Congressional Review Act. (The Commission is, therefore, not required to submit a copy of this Memorandum Opinion and Order to GAO, pursuant to the Congressional Review Act, see 5 U.S.C. 801(a)(1)(A), because the application for review was denied.)

List of Subjects in 47 CFR Part 73

Radio, Radio broadcasting.

Federal Communications Commission.
Marlene H. Dortch,
Secretary.

[FR Doc. E6-19252 Filed 11-14-06; 8:45 am]

BILLING CODE 6712-01-P